DEPARTMENT OF TRANSPORTATION

Federal Transit Administration

Notice of Meeting of the Transit Advisory Committee for Safety

AGENCY: Federal Transit Administration, DOT.

ACTION: Notice of public meeting.

SUMMARY: This notice announces a meeting of the Transit Advisory Committee for Safety (TRACS).

DATES: The meeting will be held virtually on July 21-22, 2020. Requests to attend the meeting must be received no later than July 7, 2020. Requests for disability accommodations must be received no later than July 7, 2020. Requests to verbally address the committee during the meeting must be submitted with a written copy of the remarks to DOT no later than July 7, 2020. Requests to submit written materials to be reviewed during the meeting must be received no later than July 7, 2020.

ADDRESSES: The meeting will be held virtually via an online platform. Any committee related requests should be sent by email to TRACS@dot.gov. The virtual meeting's online access link and a detailed agenda will be provided upon registration They will also be posted on the TRACS web page at: https://www.transit.dot.gov/regulations-and-guidance/safety/transit-advisory-committee-safety-tracs one week in advance of the meeting along with meeting minutes and other TRACS related information.

FOR FURTHER INFORMATION CONTACT: Henrika Buchanan, TRACS Designated Federal Officer, Associate Administrator, FTA Office of Transit Safety and Oversight, (202) 366-1783, Henrika.Buchanan@dot.gov; or Paulina Orchard, Division Chief, FTA Office of Transit Safety and Oversight, (202) 366-6153, paulina.orchard@dot.gov; or TRACS@dot.gov.

SUPPLEMENTARY INFORMATION: TRACS meetings are normally held in-person. Due to the coronavirus disease 2019 (COVID-19) public health emergency and travel advisories, the meeting will be conducted virtually.

I. Background

The Secretary of Transportation created TRACS in accordance with the Federal Advisory Committee Act (FACA) (Pub. L. 92-463, 5 U.S.C. App. 2) to provide information, advice, and recommendations to the Secretary and FTA Administrator on matters relating to the safety of public transportation systems.

II. Agenda

• Welcome Remarks/Introductions

• Review of Recommendations: Roadway Worker Protections

• Review of Recommendations: Trespass and Suicide Prevention

• Review of Recommendations: Employee Safety Reporting

• Summary of Deliverables and Public Comments

III. Public Participation

The meeting will be open to the public. Members of the public who wish to participate are asked to register via email by submitting their name and affiliation to the email address listed in the ADDRESSES section.

The U.S. Department of Transportation is committed to providing equal access to this meeting for all participants. If you need alternative formats or services because of a disability, such as sign language, interpretation, or other ancillary aids, please contact the email listed in the ADDRESSES section.

There will be a total of 60 minutes allotted for oral comments from members of the public at the meeting. To accommodate as many speakers as possible, the time for each commenter may be limited. Individuals wishing to reserve speaking time during the meeting must submit a request at the time of registration, to include the individual's name, address, and organizational affiliation to the email address listed in the ADDRESSES section.

Written comments for consideration by TRACS during the meeting must be submitted no later than the deadline listed in the DATES section, to ensure transmission to TRACS members prior to the meeting. Comments received after that date will be distributed to the members but may not be reviewed prior to the meeting.

Issued in Washington, DC.
K. Jane Williams,
Acting Administrator.

[FR Doc. 2020-12699 Filed 6-11-20; 8:45 am]

BILLING CODE P